ELECTION ASSISTANCE COMMISSION

Sunshine Act Notice

AGENCY: U.S. Election Assistance Commission.

ACTION: Notice of Public Meeting and Hearing Agenda.

Date & Time: Tuesday, May 19, 2009, 1 p.m.-4 p.m. EDT (Meeting & Hearing).

Place: U.S. Election Assistance Commission, 1225 New York Ave., NW., Suite 150, Washington, DC 20005, (Metro Stop: Metro Center).

Agenda: The Commission will hold a public meeting to consider administrative matters. The Commission will conduct a public hearing to receive presentations on the following topic: Military and Overseas Citizens: Counting Their Votes—Part 1.

Members of the public who wish to speak at the hearing regarding their experience as a Uniformed and Overseas Citizens Absentee Voting Act (UOCAVA) voter may send a request to participate to the EAC by 5 p.m. EDT on Thursday, May 14, 2009. Due to time constraints, the EAC can select no more than 15 participants amongst the volunteers who request to participate. The selected volunteers will be allotted 3 minutes each to share their experiences as a UOCAVA voter. Participants will be selected on a first-come, first-served basis. However, to maximize diversity of input, only one participant per organization or entity will be chosen if necessary. Participants will receive confirmation by 12 p.m. EDT on Friday, May 15, 2009. Those who are not selected to speak may submit written testimony. Requests to speak may be sent to the EAC via e-mail at testimony@eac.gov, via mail addressed to the U.S. Election Assistance Commission, 1225 New York Avenue, NW., Suite 1100, Washington, DC 20005, or by fax at 202-566-1389. All requests must include a description of what will be said, contact information which will be used to notify the requestor with status of request (phone number on which a message may be left or e-mail), and include the subject/attention line (or on the envelope if by mail): UOCAVA Hearing Request to Participate. Please note that these comments will be made available to the public at http://www.eac.gov.

Written testimony from members of the public, regarding UOCAVA voting, will also be accepted. This testimony will be included as part of the written record of the hearing, and available on our Web site. Written testimony must be received by 5 p.m. EDT on Friday, May 15, 2009, and should be submitted via e-mail at testimony@eac.gov, via mail addressed to the U.S. Election Assistance Commission, 1225 New York Avenue, NW., Suite 1100, Washington, DC 20005, or by fax at 202-566-1389. All correspondence that contains written testimony must have in the subject/attention line (or on the envelope if by mail): Written Testimony for UOCAVA Hearing.

Members of the public may observe but not participate in EAC meetings unless this notice provides otherwise. Members of the public may use small electronic audio recording devices to record the proceedings. The use of other recording equipment and cameras requires advance notice to and coordination with the Commission's Communications Office.*

* View EAC Regulations Implementing Government in the Sunshine Act.

This meeting and hearing will be open to the public.

Person to Contact for Information: Bryan Whitener, Telephone: (202) 566-3100.

Donetta Davidson,
Commissioner, U.S. Election Assistance Commission.

[FR Doc. E9-11064 Filed 5-7-09; 4:15 pm]

BILLING CODE 6820-KF-P